ENVIRONMENTAL PROTECTION AGENCY

[EPA-HQ-OPP-2007-0137; FRL-8116-5]

Pesticide Program Dialogue Committee: Azinphos-methyl Transition Issues Work Group, Spray Drift Work Group, and Registration Review Implementation Work Group; Notice of Public Meetings

AGENCY: Environmental Protection Agency (EPA).

ACTION: Notice.

SUMMARY: EPA's Pesticide Program Dialogue Committee (PPDC) will hold public meetings for three PPDC Work Groups: the Azinphos-methyl (AZM) Transition Issues Work Group, Spray Drift Work Group, and Registration Review Implementation Work Group. The public meetings will be held March 6-8, 2007. Agendas for these meetings are being developed and will be posted on EPA's website. In light of the recent EPA decision to phase-out the remaining uses of the organophosphate AZM over the next few years, the AZM Transition Issues Work Group is being created to help advise EPA and USDA on the AZM transition planning and implementation. The Spray Drift Work Group, co-chaired by EPA Offices of Water and Pesticide Programs, is improving understanding of the perspectives of all stakeholders regarding spray drift and will provide recommendations on ways to mitigate spray drift. The Registration Review Implementation Work Group is developing recommendations for the Registration Review initial docket opening process.

DATES: The AZM Transition Issues Work Group meeting will be held on March 6, 2007 from 10 a.m. to 6 p.m. The Spray Drift Work Group meeting will be held on March 7, 2007 from 9 a.m. to 5 p.m. and on March 8, 2007 from 8:45 a.m. to 12 p.m. The Registration Review Implementation Work Group meeting will be held on March 8, 2007 from 8:30 a.m. to 4 p.m.

To request accommodation of a disability, please contact the person listed under FOR FURTHER INFORMATON CONTACT, preferably at least 10 days prior to the meeting, to give EPA as much time as possible to process your request.

ADDRESSES: The meetings will all be held at EPA's offices at 2777 South Crystal Dr., First Floor Conference Center. Arlington, VA 22202, except the second day of the Spray Drift Work Group meeting will be in room S-12100 of this same building.

FOR FURTHER INFORMATION CONTACT: For AZM Transition Issues Workgroup questions, contact: Linda Murray; Biological and Economic Analysis Division (7503P); Office of Pesticide Programs, Environmental Protection Agency, 1200 Pennsylvania Ave., NW., Washington, DC 20460-0001; telephone number: (703) 305-5401; fax number: (703) 308-8091; email address: murray.linda@epa.gov. For Spray Drift Work Group questions, contact: Pat Cimino, Biological and Economic Analysis Division (7503P), Office of Pesticide Programs, Environmental Protection Agency, 1200 Pennsylvania Ave., NW., Washington, DC 20460-0001; telephone number: (703) 308-9357; fax number: (703) 308-809; email address: cimino.pat@epa.gov. For Registration Review Implementation Work Group questions, contact: Kennan Garvey, Special Review and Reregistration Division (7508P), Office of Pesticide Programs, Environmental Protection Agency, 1200 Pennsylvania Ave., NW., Washington, DC 20460-0001; telephone number: (703) 305-7106; fax number: (703) 308-7090; e-mail address: garvey.kennan@epa.gov

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the persons listed under FOR FURTHER INFORMATION CONTACT.

B. How Can I Get Copies of this Document and Other Related Information?

1. Docket. EPA has established a docket for this action under docket identification (ID) number EPA-HQ-OPPT-2007-0137 Publicly accessible docket materials are available either in the electronic docket at http://www.regulations.gov, or, available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. Background

The Office of Pesticide Programs is entrusted with the responsibility of ensuring the safety of the American food supply, protection and education of those who apply or are exposed to pesticides occupationally or through use of products, and the general protection of the environment and special ecosystems from potential risks posed by pesticides.

Because of EPA's decision to phase-out the remaining uses of the organophosphate AZM over the next few years, the AZM Transition Issues Work Group is being created to help advise EPA and USDA on the AZM transition planning and implementation and is holding a meeting on March 6, 2007. The Spray Drift Work Group, co-chaired by EPA Offices of Water and Pesticide Programs, is improving understanding of the perspectives of all stakeholders regarding spray drift and will provide recommendations on ways to mitigate spray drift is chairing a meeting on March 7 and 8, 2007. The Registration Review Implementation Work Group which is developing recommendations for the Registration Review initial docket opening process will chair a meeting on March 8, 2007. Future meetings will be announced on the work group's Web sites (see: Active Workgroups menu at: http://www.epa.gov/pesticides/ppdc/).

PPDC was established under the Federal Advisory Committee Act (FACA), Public Law 92-463, in September 1995 for a 2-year term and has been renewed every 2 years since that time. PPDC provides advice and recommendations to OPP on a broad range of pesticide regulatory, policy, and program implementation issues that are associated with evaluating and reducing risks from use of pesticides. The following sectors are represented on the PPDC: pesticide industry and trade associations; environmental/public interest and consumer groups; farm worker organizations; pesticide user, grower, and commodity groups; federal/state/local/ and tribal governments; the general public; academia; and public health organizations.

Copies of the PPDC charter are filed with appropriate committees of Congress, the Library of Congress, and are available upon request.

List of Subjects

Environmental protection, Pesticides and pests.

Dated Febrary 12, 2007.
James Jones,
Director, Office of Pesticide Programs.

[FR Doc. E7-2871 Filed 2-20-07; 8:45 am]

BILLING CODE 6560-50-S